DEPARTMENT OF THE INTERIOR

National Park Service

Notice of Availability for the Final General Management Plan and Environmental Impact Statement for the North Unit of Badlands National Park, SD

SUMMARY: Pursuant to section 102(2)(C) of the National Environmental Policy Act of 1969, the National Park Service (NPS) announces the availability of the Final General Management Plan and Environmental Impact Statement (GMP/EIS) for Badlands National Park—North Unit.

DATES: The NPS will execute a record of decision (ROD) no sooner than 30 days following the publication of a notice of availability for the final GMP/EIS in the Federal Register by the Environmental Protection Agency.

ADDRESSES: Copies of the final GMP/EIS are available upon request by writing the Superintendent, Badlands National Park, P.O. Box 6, Interior, South Dakota 57750-0006. The document is also available to be picked up at park headquarters located at Cedar Pass in Interior, South Dakota. In addition, the final GMP/EIS is available on the Internet at: http://parkplanning.nps.gov/.

FOR FURTHER INFORMATION CONTACT: Superintendent Paige Baker, P.O. Box 6, Interior, South Dakota 57750-0006, telephone 605-433-5280.

SUPPLEMENTARY INFORMATION: The NPS prepared a Draft GMP/EIS for Badlands National Park and made it available for public review for 90 days (September 2005 to January 2006), during which time the NPS distributed over 300 copies of the draft. The draft was available at the Badlands National Park and on the Internet. A total of 17 written comments were received, and 25 participants attended 3 open houses. The general opinion from the public comment period is that the correct path to pursue for future management of the Badlands National Park is the preferred alternative, Alternative B. Comments from individuals and public agencies did not require the addition of other alternatives, significantly alter existing alternatives, or make changes to the impact analysis of the effects of any alternative.

Our practice is to make comments, including names, home addresses, home phone numbers, and e-mail addresses of respondents available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives of or officials of organizations or businesses, available for public inspection in their entirety.

Dated: September 1, 2006.
Ernest Quintana,
Regional Director, Midwest Region.

[FR Doc. E6-17558 Filed 10-19-06; 8:45 am]

BILLING CODE 4312-AD-P